DEPARTMENT OF EDUCATION

National Assessment Governing Board

Seeking Initial Public Comment Prior To Updating the Civics Assessment Framework for the National Assessment of Educational Progress (NAEP)

AGENCY: National Assessment Governing Board, U.S. Department of Education.

ACTION: Notice of opportunity for initial public comment prior to updating the Civics Assessment Framework for the National Assessment of Educational Progress (NAEP).

SUMMARY: The National Assessment Governing Board (Governing Board) is seeking initial public comment prior to updating the Civics Assessment Framework for the National Assessment of Educational Progress (NAEP).

DATES: Comments must be received on or before 5:00 p.m. Eastern Time on Friday, March 27, 2026.

ADDRESSES: Submit written comments via email to nagb@ed.gov with the subject line “NAEP Civics Framework.”

FOR FURTHER INFORMATION CONTACT: Sharyn Rosenberg, National Assessment Governing Board, 400 Maryland Avenue SW, Washington, DC 20202, telephone: (202) 245-6249, email: Sharyn.Rosenberg@ed.gov.

SUPPLEMENTARY INFORMATION: The Governing Board is responsible for developing and updating NAEP frameworks, which guide the content of NAEP assessments. Section 302(e)(1)(c) of Public Law 107-279 specifies that the Governing Board determines the content to be assessed for each NAEP Assessment. Each NAEP subject area assessment is guided by a framework that defines the scope of the domain to be measured by delineating the knowledge and skills to be tested at each grade and subject, the format of the assessment, and the achievement level descriptions—guiding assessments that are valid, reliable, and reflective of widely accepted professional standards.

In preparation for a potential update, the Board is initiating a preliminary review of the current NAEP Civics Assessment Framework. This initial gathering of public comment is the first stage in a comprehensive multi-year process that, if the Board decides framework revisions are needed, will later involve multiple iterations of stakeholder feedback and an expert panel to guide the development of assessment questions and recommendations for contextual questionnaires administered to students, teachers, and schools.

Individuals and organizations are invited to provide written comments and recommendations relative to the current framework. Comments should specifically address three questions:

• Does the NAEP Civics Assessment Framework need to be updated?

• If the framework needs to be updated, why is a revision needed?

• What should a revision to the framework include?

Your name and affiliation may be shared and discussed publicly with your comments in upcoming Governing Board meetings and materials unless you indicate that your comments can only be shared without attribution.

If the Governing Board decides that an update is needed, the charge to launch the revision process for the NAEP Civics Framework is anticipated to be adopted at the May 2026 quarterly Board meeting. Each NAEP framework development and update process considers a wide set of factors, including but not limited to reviews of recent research on teaching and learning, changes in state and local standards and assessments, and the latest perspectives on the nation's future needs and desirable levels of achievement.

Resources

NAEP Civics Framework

NAEP Civics Specifications

Board Policy on Assessment Framework Development

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

(Authority: Pub. L. 107-279, title III, section 301—National Assessment of Educational Progress Authorization Act (20 U.S.C. 9621).)

Lesley Muldoon,
Executive Director, National Assessment Governing Board (NAGB), U.S. Department of Education.

[FR Doc. 2026-02980 Filed 2-12-26; 8:45 am]

BILLING CODE 4000-01-P